DEPARTMENT OF AGRICULTURE

Forest Service

Daniel Boone National Forest Resource Advisory Committee

AGENCY: Forest Service, USDA.

ACTION: Notice of meeting.

SUMMARY: The Daniel Boone National Forest Resource Advisory Committee will meet in London, Kentucky. The committee is authorized under the Secure Rural Schools and Community Self-Determination Act (Pub. L. 110-343) and in compliance with the Federal Advisory Committee Act. The primary objective of the meeting is to review proposed project applications.

DATES: The meeting will be held on Monday, March 7, 2011 at 6 p.m. EST.

ADDRESSES: The meeting will be held at the Cumberland Valley Area Development District, 342 Old Whitley Road, London, KY 40744 in a meeting room on the basement floor. Written comments should be sent to Kimberly Morgan, Daniel Boone National Forest, 1700 Bypass Road, Winchester, KY 40391. Comments may also be sent via e-mail to kmorgan@fs.fed.us or via facsimile to 859-744-1568. All comments, including names and addresses when provided, are placed in the record and are available for public inspection and copying. The public may inspect received comments at Daniel Boone National Forest, 1700 Bypass Road, Winchester, KY 40391. Visitors are encouraged to call ahead at 859-745-3100 to arrange an appointment.

FOR FURTHER INFORMATION CONTACT: Kimberly Morgan, RAC Coordinator, USDA, Daniel Boone National Forest, 1700 Bypass Road, Winchester, KY 40391; (859) 745-3100; E-mail kmorgan@fs.fed.us. Individuals who use telecommunication devices for the deaf (TDD) may call the Federal Information Relay Service (FIRS) at 1-800-877-8339 between 8 a.m. and 8 p.m., Eastern Standard Time, Monday through Friday.

SUPPLEMENTARY INFORMATION: The meeting is open to the public. The following business will be conducted: (1) Review committee operating guide; (2) Discuss mileage reimbursement for committee members; (3) Review and discuss submitted project applications; (4) Vote to approve project proposals; and (5) Public Comments. Persons who wish to bring related matters to the attention of the Resource Advisory Committee may file written statements with the committee staff before or after the meeting.

Dated: February 1, 2011.
Frank R. Beum,
Forest Supervisor, Daniel Boone National Forest.

[FR Doc. 2011-2682 Filed 2-7-11; 8:45 am]

BILLING CODE 3410-11-P